FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202) 523-5793 or tradeanalysis@fmc.gov.

Agreement No.: 011741-022.

Agreement Name: U.S. Pacific Coast-Oceania Agreement.

Parties: ANL Singapore Pte. Ltd.; Hapag-Lloyd AG; and Maersk Line A/S.

Filing Party: Wayne Rohde; Cozen O'Connor.

Synopsis: The amendment replaces Hamburg Sud with Maersk Line A/S and deletes CMA CGM S.A. as a party, combines two vessel strings into a single string, deletes a restriction on operating in the trade outside the Agreement, makes several administrative changes, and restates the Agreement.

Proposed Effective Date: 10/11/2018.

Location: https://www2.fmc.gov/FMC.Agreements.Web/Public/AgreementHistory/601.

Agreement No.: 201270.

Agreement Name: Marine Terminal Services Agreement Between Port of Houston Authority and CMA CGM S.A.

Parties: CMA CGM S.A. and Port of Houston Authority.

Filing Party: Chasless Yancy; Port of Houston Authority.

Synopsis: The Agreement sets forth certain discounted rates and charges applicable to CMA CGM S.A.'s container vessels calling at the Port of Houston Authority's Barbours Cut and Bayport Container Terminals in the Port of Houston.

Proposed Effective Date: 8/29/2018.

Location: https://www2.fmc.gov/FMC.Agreements.Web/Public/AgreementHistory/16273.

Dated: August 31, 2018.
Rachel Dickon,
Secretary.

[FR Doc. 2018-19329 Filed 9-5-18; 8:45 am]

BILLING CODE 6731-AA-P